DEPARTMENT OF HOMELAND SECURITY

Coast Guard

[Docket No. USCG-2017-0830]

National Maritime Security Advisory Committee

AGENCY: U.S. Coast Guard, Department of Homeland Security.

ACTION: Notice of Federal Advisory Committee meeting.

SUMMARY: The National Maritime Security Advisory Committee will meet in Arlington, Virginia, to review and discuss various issues relating to national maritime security. All meetings will be open to the public.

DATES: The Committee will meet on Tuesday, September 19, 2017, from 12 Noon to 4:30 p.m. and on Wednesday, September 20, 2017, from 8 a.m. to 12 Noon. This meeting may close early if all business is finished.

ADDRESSES: The meeting will be held in the Holiday Inn Arlington, Ballroom 1, 4610 North Fairfax Drive; Arlington, Virginia 22203. The hotel's Web site is: http://www.hiarlington.com/.

This meeting will be broadcast via a web enabled interactive online format and teleconference line. To participate via teleconference, dial 1-855-475-2447; the pass code to join is 764 990 20#. Additionally, if you would like to participate in this meeting via the online web format, please log onto https://share.dhs.gov/nmsac/ and follow the online instructions to register for this meeting. If you encounter technical difficulties, contact Mr. Ryan Owens at (202) 302 6565.

For information on facilities or services for individuals with disabilities, or to request special assistance at the meetings, contact the individual listed in FOR FURTHER INFORMATION CONTACT below as soon as possible.

Instructions: You are free to submit comments at any time, including orally at the meetings, but if you want Committee members to review your comment before the meetings, please submit your comments no later than September 15, 2017. We are particularly interested in comments on the issues in the “Agenda” section below. You must include “Department of Homeland Security” and the docket number [USCG-2017-0830]. Written comments must be submitted using the Federal eRulemaking Portal: http://www.regulations.gov. If you encounter technical difficulties, contact the individual in the FOR FURTHER INFORMATION CONTACT section of this document. Comments received will be posted without alteration at http://www.regulations.gov including any personal information provided. You may review the Privacy Act and Security Notice for the Federal Docket Management System at https://regulations.gov/privacyNotice.

Docket Search: For access to the docket to read documents or comments related to this notice, go to http://www.regulations.gov, and use “USCG-2017-0830” in the “Search” box, press Enter, and then click on the item you wish to view.

FOR FURTHER INFORMATION CONTACT: Mr. Ryan Owens, Alternate Designated Federal Officer of the National Maritime Security Advisory Committee, 2703 Martin Luther King Jr. Avenue SE., Washington, DC 20593, Stop 7581, Washington, DC 20593-7581; telephone 202-372-1108 or email ryan.f.owens@uscg.mil.

SUPPLEMENTARY INFORMATION: Notice of this meeting is in compliance with the Federal Advisory Committee Act, (Title 5, United States Code, Appendix). The National Maritime Security Advisory Committee operates under the authority of 46 U.S.C. 70112. The National Maritime Security Advisory Committee provides advice, consults with, and makes recommendations to the Secretary of Homeland Security, via the Commandant of the Coast Guard, on matters relating to national maritime security.

A copy of all meeting documentation will be available at https://homeport.uscg.mil/NMSAC by September 30, 2017.

Agenda of Meeting

Day 1

The Committee will meet to review, discuss and formulate recommendations on the following issues:

(1) Cyber Security Guidance in the Marine Transportation System. The Committee will discuss and receive a brief on the current efforts to implement cyber security strategies. The Committee will also provide recommendations on current effort to provide Cyber Security Guidance.

(2) Regulatory Reform effort update. The Committee will discuss the efforts of the Regulatory Reform working group to address the tasking put forward to the Committee in August (NMSAC Task T2017-01).

(3) Member Report. The Committee members will each provide an update on the security developments in each of the respective member's representative segment.

(4) Public Comment period.

Day 2

The Committee will meet to review, discuss and formulate recommendations on the following issues:

(1) Extremely Hazardous Cargo Strategy. In July 2016, the U.S. Coast Guard tasked the Committee to work with the Chemical Transportation Advisory Committee to assist in the development of an Extremely Hazardous Cargo Strategy Implementation Plan. The Committee will discuss and receive an update from the Extremely Hazardous Cargo Working Group on their efforts.

(2) Future Policies Tasking. In October, 2016 the Committee was tasked with identifying future security issues for U.S. Coast Guard to consider. The Committee will discuss and receive an update on this effort.

(3) Public comment period.

Public comments or questions will be taken throughout the meeting as the Committee discusses the issues and prior to deliberations and voting. There will also be a public comment period at the end of each meeting. Speakers are requested to limit their comments to 5 minutes.

Please note that the public comment period may end before the period allotted, following the last call for comments. Contact the individual listed in the FOR FURTHER INFORMATION CONTACT section above to register as a speaker.

Dated: August 28, 2017.
Jennifer F. Williams,
Captain, U.S. Coast Guard, Director of Inspections and Compliance.

[FR Doc. 2017-18515 Filed 8-31-17; 8:45 am]

BILLING CODE 9110-04-P